NATIONAL AERONAUTICS AND SPACE ADMINISTRATION

[Notice 03-127]

NASA Space Science Advisory Committee, Solar System Exploration Subcommittee; Meeting

AGENCY: National Aeronautics and Space Administration.

ACTION: Notice of meeting.

SUMMARY: The National Aeronautics and Space Administration announces a meeting of the NASA Space Science Advisory Committee (SScAC), Solar System Exploration Subcommittee (SSES).

DATES: Thursday, October 23, 2003, 8:30 a.m. to 5:15 p.m.; Friday, October 24, 2003, 8:30 a.m. to 12:30 p.m.

ADDRESSES: National Aeronautics and Space Administration, Room 9H40, 300 E Street, SW., Washington, DC 20546.

FOR FURTHER INFORMATION CONTACT: Dr. Jay Bergstralh, Code SE, National Aeronautics and Space Administration, Washington, DC 20546, 202/358-0313, Jay.T.Bergstralh@nasa.gov.

SUPPLEMENTARY INFORMATION: The meeting will be open to the public up to the seating capacity of the room. The agenda for the meeting is as follows:

—Status of Solar System Exploration

—Status of Mars Exploration Program

—Mars Exploration Rover Status

—Instruments for Mars Surface Laboratory Payload

—Mars Exploration Program beyond Mars Surface Laboratory

—Prometheus Science Concept Definition Team

—Bahcall Committee Report on Hubble Space Telescope

Attendees will be requested to sign a register and to comply with NASA security requirements, including the presentation of a valid picture ID, before receiving an access badge. Foreign nationals attending this meeting will be required to provide the following information: full name; gender; date/place of birth; citizenship; visa/greencard information (number, type, expiration date); employer/affiliation information (name of institution, address, country, phone); title/position of attendee. Foreign nationals will be escorted at all times. To expedite admittance, all attendees can provide identifying information in advance by contacting Dr. Jay Bergstralh via e-mail at Jay.T.Bergstralh@nasa.gov or by telephone at 202/358-0313 or Kay Butzke via e-mail at glenda.K.butzke@nasa.gov or by telephone at 202/358-0730.

It is imperative that the meeting be held on these dates to accommodate the scheduling priorities of the key participants. Visitors will be requested to sign a visitor's register.

June W. Edwards,
Advisory Committee Management Officer, National Aeronautics and Space Administration.

[FR Doc. 03-25497 Filed 10-7-03; 8:45 am]

BILLING CODE 7510-01-P